DEPARTMENT OF DEFENSE

Defense Acquisition Regulations System

[Docket Number DARS-2020-0010; OMB Control Number 0704-0477]

Information Collection Requirement; Defense Federal Acquisition Regulation Supplement (DFARS); Contractor Qualifications

AGENCY: Defense Acquisition Regulations System, Department of Defense (DoD).

ACTION: Notice and request for comments regarding a proposed revision of an approved information collection requirement.

SUMMARY: In compliance with section 3506(c)(2)(A) of the Paperwork Reduction Act of 1995, DoD announces the proposed revision and extension of a public information collection requirement and seeks public comment on the provisions thereof. DoD invites comments on: Whether the proposed collection of information is necessary for the proper performance of the functions of DoD, including whether the information will have practical utility; the accuracy of the estimate of the burden of the proposed information collection; ways to enhance the quality, utility, and clarity of the information to be collected; and ways to minimize the burden of the information collection on respondents, including the use of automated collection techniques or other forms of information technology. The Office of Management and Budget (OMB) has approved this information collection for use through May 31, 2020. DoD proposes that OMB extend its approval for use for three additional years beyond the current expiration date.

DATES: DoD will consider all comments received by April 27, 2020.

ADDRESSES: You may submit comments, identified by OMB Control Number 0704-0477, using any of the following methods:

○ Federal eRulemaking Portal: http://www.regulations.gov. Follow the instructions for submitting comments.

○ Email: osd.dfars@mail.mil. Include OMB Control Number 0704-0477 in the subject line of the message.

○ Fax: 571-372-6094.

○ Mail: Defense Acquisition Regulations System, Attn: Ms. Kimberley Bass, OUSD(A&S)DPAP(DARS), 3060 Defense Pentagon, Room 3B941, Washington, DC 20301-3060.

Comments received generally will be posted without change to http://www.regulations.gov, including any personal information provided.

FOR FURTHER INFORMATION CONTACT: Ms. Kimberley Bass, at 571-372-6174.

SUPPLEMENTARY INFORMATION: Title, Associated Form, and OMB Number: Defense Federal Acquisition Regulation Supplement (DFARS) Part 209, Contractor Qualifications, and related provision at 252.209; OMB Control Number 0704-0477.

Needs and Uses: The information collection under OMB Control Number 0704-0477 pertains to the requirement for offerors to submit a mitigation plan when there is an organizational conflict of interest that can be resolved through mitigation in order to address organizational conflicts of interest in major defense acquisition programs. DFARS 252.209-7008, Notice of Prohibition Relating to Organizational Conflict of Interest—Major Defense Acquisition Program requires an offeror to submit a mitigation plan if requesting an exemption from the statutory limitation on future contracting.

Affected Public: Businesses or other for-profit and not-for-profit institutions.

Respondent's Obligation: Required to obtain or retain benefits.

Number of Respondents: 20.

Responses per Respondent: Approximately 3.

Annual Responses: 60.

Average Burden per Response: 40 hours.

Annual Burden Hours: 2,400.

Frequency: On occasion.

Summary of Information Collection

This information collection includes requirements relating to DFARS subpart 209.5, Organizational and Consultant Conflicts of Interest, and the related provision at DFARS 252.209-7008, Notice of Prohibition Relegating to Organizational Conflict of Interest—Major Defense Acquisition Program. DFARS subpart 209.5 implements section 207 of the Weapons system Acquisition Reform Act of 2009 (Pub. L. 111-23). The provision at DFARS 252.209-7008, paragraph (d), requires an offeror to submit a mitigation plan if requesting an exemption from the statutory limitation on future contracting.

Jennifer Lee Hawes,
Regulatory Control Officer, Defense Acquisition Regulations System.

[FR Doc. 2020-03890 Filed 2-25-20; 8:45 am]

BILLING CODE 5001-06-P